DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 18, 2024.will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Recordkeeping for Employment and Training Program Activity Report and Requests for Additional 100 Percent Funding.

OMB Control Number: 0584-0339.

Summary of Collection: The Balanced Budget Act of 1997 (Pub. L. 105-33), modified the Employment and Training (E&T) Program so that States' efforts are now focused on a particular segment of the Supplemental Nutrition Assistance Program (SNAP) population—able-bodied adults without dependents (ABAWDs).

Requests for Additional E&T Funds: 7 CFR 273.7(d)(1)(i)(D) provides that if a State agency will not expend all of the funds allocated to it for a fiscal year, FNS will reallocate unexpended funds to other State agencies during the fiscal year or the subsequent fiscal year as FNS considers appropriate and equitable. After FNS makes initial E&T allocations, under 7 CFR 273.7(d)(1)(i), State agencies may request additional E&T funds if needed. FNS will reallocate available funds (e.g., funds that are unallocated or funds that are allocated but will not be spent) in a fair and equitable manner.

Retention and Custody of Records. Under 7 CFR 277.12 (1) and (2), all financial records, supporting documents, statistical records, negotiated contracts, and all other records pertinent to program funds shall be maintained for three years from the date of submission of the annual financial status report or if any litigation, claim, or audit is started before the expiration of the three-year period, the applicable records shall be retained until these have been resolved.

Need and Use of the Information: FNS will review requests about their E&T programs so that the Department can monitor State performance to ensure that the program is being efficiently and economically operated. Without the information, FNS would be unable to make adjustments or allocate exemptions in accordance with the statute.

Description of Respondents: State, Local, or Tribal Government.

Number of Respondents: 53.

Frequency of Responses: Recordkeeping; Reporting: Occasionally; Annually.

Total Burden Hours: 50.

Rachelle Ragland-Greene,
Acting Departmental Information Collection Clearance Officer.

[FR Doc. 2024-03173 Filed 2-14-24; 8:45 am]

BILLING CODE 3410-30-P